DEPARTMENT OF DEFENSE

Missile Defense Agency; Membership of the Missile Defense Agency Senior Executive Service Performance Review Board

AGENCY: Missile Defense Agency, DoD.

ACTION: Notice of Membership of the Missile Defense Agency Senior Executive Service Performance Review Board.

SUMMARY: This notice announces the appointment of members to the Missile Defense Agency (MDA) Performance Review Board. The Performance Review Board provides a fair and impartial review of Senior Executive Service (SES) performance appraisals and makes recommendations to the Director, Missile Defense Agency, regarding final performance ratings and performance awards for MDA SES members.

EFFECTIVE DATE: October 21, 2005.

FOR FURTHER INFORMATION CONTACT: Ms. Janice Siemsen, Director, Workforce Management, Missile Defense Agency, 7100 Defense Pentagon, Washington, DC 20301-7100, (703) 697-6538.

SUPPLEMENTARY INFORMATION: In accordance with 5 U.S.C. 4314(c)(4), the following are the names and titles of MDA career executives appointed to serve as members of the MDA Performance Review Board. Appointees will serve one-year terms, effective upon publication of this notice.

BG Keith McNamara, USA, Deputy Director, MDA, Chairperson.

Mr. Terry Little, Executive Director, MDA, Member.

Ms. Patricia Sanders, Deputy Director, BMDS Integration, MDA, Member.

Brig Gen Chris Anzalone, USAF, Deputy for Test and Assessment, MDA Member.

Dated: October 17, 2005.
L.M. Bynum,
Alternate OSD Federal Register, Liaison Officer, DoD.

[FR Doc. 05-21114 Filed 10-20-05; 8:45 am]

BILLING CODE 5001-06-M